DEPARTMENT OF HEALTH AND HUMAN SERVICES

National Institutes of Health

Office of Biotechnology Activities, Office of Science Policy, Office of the Director; Notice of Closed Meeting

Pursuant to section 10(d) of the Federal Advisory Committee Act, as amended (5 U.S.C. Appendix 2), notice is hereby given of the following meeting of the National Science Advisory Board for Biosecurity (NSABB).

Under authority 42 U.S.C. 217a, section 222 of the Public Health Service Act, as amended, the Department of Health and Human Services established NSABB to provide advice, guidance and leadership regarding Federal oversight of dual-use research, defined as biological research with legitimate scientific purposes that could be misused to pose a biological threat to public health and/or national security.

The meeting will be closed to the public in accordance with the provisions set forth in sections 552b(c)(1), Title 5 U.S.C., as amended because matters sensitive to the interest of national security will be presented.

Name of Committee: National Science Advisory Board for Biosecurity.

Date: January 31, 2007.

Time: 9 a.m. to 3 p.m.

Agenda: Representatives from the Intelligence Community will present a classified session on the current counterterrorism and couterproliferation threats to the U.S.

Place: At a predetermined location in Virginia.

Contact Person: Ronna Hill, NSABB Program Assistant, NIH Office of Biotechnology Activities, 6705 Rockledge Drive, Bethesda, Maryland 20892, (301) 496-9838.

This meeting is being published less than 15 days prior to the meeting due to timing limitations imposed by administrative matters.

Dated: January 12, 2007.
David Clary,
Acting Director, Office of Federal Advisory Committee Policy.

[FR Doc. 07-240 Filed 1-19-07; 8:45 am]

BILLING CODE 4140-01-M